SUSQUEHANNA RIVER BASIN COMMISSION

Public Hearing

AGENCY: Susquehanna River Basin Commission.

ACTION: Notice.

SUMMARY: The Susquehanna River Basin Commission will hold a public hearing on August 1, 2019, in Harrisburg, Pennsylvania. At this public hearing, the Commission will hear testimony on the projects listed in the SUPPLEMENTARY INFORMATION section of this notice. Such projects are intended to be scheduled for Commission action at its next business meeting, tentatively scheduled for September 6, 2019, which will be noticed separately. The public should take note that this public hearing will be the only opportunity to offer oral comment to the Commission for the listed projects. The deadline for the submission of written comments is August 12, 2019.

DATES: The public hearing will convene on August 1, 2019, at 2:30 p.m. The public hearing will end at 5:00 p.m. or at the conclusion of public testimony, whichever is sooner. The deadline for the submission of written comments is August 12, 2019.

ADDRESSES: The public hearing will be conducted at the Susquehanna River Basin Commission, 4423 N Front Street, Harrisburg, Pa.

FOR FURTHER INFORMATION CONTACT: Jason Oyler, General Counsel and Secretary to the Commission, telephone: (717) 238-0423; fax: (717) 238-2436. Information concerning the applications for these projects is available at the Commission's Water Application and Approval Viewer at https://www.srbc.net/waav. Additional supporting documents are available to inspect and copy in accordance with the Commission's Access to Records Policy at www.srbc.net/regulatory/policies-guidance/docs/access-to-records-policy-2009-02.pdf.

SUPPLEMENTARY INFORMATION: The public hearing will cover the following projects:

Projects Scheduled for Action

1. Project Sponsor: Aqua Pennsylvania, Inc. Project Facility: Eagle Rock Utilities Water System, North Union Township, Schuylkill County, Pa. Application for groundwater withdrawal of up to 0.163 mgd (30-day average) from Well ER-8.

2. Project Sponsor and Facility: Chester Water Authority, East Nottingham Township, Chester County, Pa. Application for consumptive use of up to 60.000 mgd (peak day).

3. Project Sponsor and Facility: Chief Oil & Gas LLC (Loyalsock Creek), Forksville Borough, Sullivan County, Pa. Application for renewal of surface water withdrawal of up to 1.500 mgd (peak day) (Docket No. 20150903).

4. Project Sponsor and Facility: Dillsburg Area Authority, Carroll Township, York County, Pa. Application for groundwater withdrawal of up to 0.220 mgd (30-day average) from Well 4.

5. Project Sponsor: Dover Township. Project Facility: Dover Township Water Department, Dover Township, York County, Pa. Application for renewal of groundwater withdrawal of up to 0.350 mgd (30-day average) from Well 9 (Docket No. 19880205).

6. Project Sponsor and Facility: Duncannon Borough, Penn Township, Perry County, Pa. Application for groundwater withdrawal of up to 0.037 mgd (30-day average) from Well 7.

7. Project Sponsor and Facility: Elk Mountain Ski Resort, Inc. (Unnamed Tributary to East Branch Tunkhannock Creek), Herrick Township, Susquehanna County, Pa. Modification to change from peak day to 30-day average for surface water withdrawal and consumptive use limits (Docket No. 20031003).

8. Project Sponsor and Facility: Pennsylvania General Energy Company, L.L.C. (Loyalsock Creek), Plunketts Creek Township, Lycoming County, Pa. Application for surface water withdrawal of up to 2.000 mgd (peak day).

9. Project Sponsor and Facility: Pennsylvania State University, College Township, Centre County, Pa. Application for renewal of consumptive use of up to 2.622 mgd (peak day) (Docket No. 19890106).

10. Project Sponsor and Facility: Pennsylvania State University, College Township, Centre County, Pa. Application for renewal of groundwater withdrawal of up to 1.728 mgd (30-day average) from Well UN-33 (Docket No. 19890106).

11. Project Sponsor and Facility: Pennsylvania State University, College Township, Centre County, Pa. Application for renewal of groundwater withdrawal of up to 1.678 mgd (30-day average) from Well UN-34 (Docket No. 19890106).

12. Project Sponsor and Facility: Pennsylvania State University, College Township, Centre County, Pa. Application for renewal of groundwater withdrawal of up to 1.728 mgd (30-day average) from Well UN-35 (Docket No. 19890106).

13. Project Sponsor and Facility: Repsol Oil & Gas USA, LLC (Wappasening Creek), Windham Township, Bradford County, Pa. Application for renewal of surface water withdrawal of up to 1.000 mgd (peak day) (Docket No. 20150910).

14. Project Sponsor and Facility: Rockdale Marcellus, LLC (Lycoming Creek), McIntyre Township, Lycoming County, Pa. Application for surface water withdrawal of up to 2.000 mgd (peak day).

15. Project Sponsor and Facility: Seneca Resources Company, LLC (Marsh Creek), Delmar Township, Tioga County, Pa. Application for renewal of surface water withdrawal of up to 0.499 mgd (peak day) (Docket No. 20150908).

16. Project Sponsor and Facility: XTO Energy Inc. (West Branch Susquehanna River), Chapman Township, Clinton County, Pa. Application for renewal of surface water withdrawal of up to 2.000 mgd (peak day) (Docket No. 20150911).

Project Scheduled for Action Involving a Diversion

17. Project Sponsor and Facility: Chester Water Authority, East Nottingham Township, Chester County, Pa. Application for an out-of-basin diversion of up to 60.000 mgd (peak day) from the Susquehanna River and Octoraro Reservoir.

Opportunity To Appear and Comment

Interested parties may appear at the hearing to offer comments to the Commission on any business listed above required to be subject of a public hearing. The presiding officer reserves the right to limit oral statements in the interest of time and to otherwise control the course of the hearing. Access to the hearing room will begin at 2:00 p.m. and Commission staff will be available for questions prior to the commencement of the hearing. Guidelines for the public hearing are posted on the Commission's website, www.srbc.net, prior to the hearing for review. The presiding officer reserves the right to modify or supplement such guidelines at the hearing. Written comments on any business listed above required to be subject of a public hearing may also be mailed to Mr. Jason Oyler, Secretary to the Commission, Susquehanna River Basin Commission, 4423 North Front Street, Harrisburg, Pa. 17110-1788, or submitted electronically through www.srbc.net/about/meetings-events/public-hearing.html. Comments mailed or electronically submitted must be received by the Commission on or before August 12, 2019, to be considered.

Authority: Pub. L. 91-575, 84 Stat. 1509 et seq., 18 CFR parts 806, 807, and 808.

Dated: June 28, 2019.
Jason E. Oyler,
General Counsel and Secretary to the Commission.

[FR Doc. 2019-14208 Filed 7-2-19; 8:45 am]

BILLING CODE 7040-01-P